DEPARTMENT OF COMMERCE

National Oceanic and Atmospheric Administration

RIN 0648-XD863

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold a workshop in conjunction with a joint meeting of the Council's Mackerel, Squid, and Butterfish Advisory Panel and Ecosystems and Ocean Planning Advisory Panel. The purpose of the workshop is to refine spatial alternatives for deep sea coral protection zones for inclusion the Council's Deep Sea Corals Amendment.

DATES: The meeting will be held on Wednesday, April 29, 2015 through Thursday, April 30, 2015. For agenda details, see SUPPLEMENTARY INFORMATION.

ADDRESSES: The meeting will be held at: Doubletree by Hilton BWI, 890 Elkridge Landing Road, Linthicum, MD 21090; telephone: (410) 859-8060.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, and briefing materials.

SUPPLEMENTARY INFORMATION: This workshop will address spatial options for discrete coral protection zones proposed under the Council's Deep Sea Corals Amendment to the Mackerel, Squid, and Butterfish Fishery Management Plan. The Council is developing this amendment to address the potential impacts of fishing activity on deep sea corals in the Mid-Atlantic. The Council will solicit the input of the Mackerel, Squid, and Butterfish Advisory Panel, the Ecosystems and Ocean Planning Advisory Panel, members of the Fishery Management Action Team (FMAT), additional deep sea coral experts, and additional fishing industry participants in order to refine the current proposed boundaries and review alternative boundary proposals.

The workshop will consist of a half-day meeting on Wednesday, April 29, from 1 p.m. to 5 p.m., and continue on Thursday, April 30, from 9 a.m. to 3 p.m. Prior to the meeting, a detailed agenda and briefing materials will be posted on the Council's Web site at: http://www.mafmc.org/. Background information and documents for the amendment can be found at: http://www.mafmc.org/actions/msb/am16.

Special Accommodations

These meetings are physically accessible to people with disabilities. Requests for sign language interpretation or other auxiliary aid should be directed to M. Jan Saunders, (302) 526-5251, at least 5 days prior to the meeting date.

Dated: April 7, 2015.
Tracey L. Thompson,
Acting Deputy Director, Office of Sustainable Fisheries, National Marine Fisheries Service.

[FR Doc. 2015-08268 Filed 4-9-15; 8:45 am]

BILLING CODE 3510-22-P